SECURITIES AND EXCHANGE COMMISSION

[File No. 500-1]

In the Matter of: American United Gold Corporation, AMS Homecare Inc., Aucxis Corp., and CYOP Systems International Inc.; Order of Suspension of Trading

February 24, 2012.

It appears to the Securities and Exchange Commission that there is a lack of current and accurate information concerning the securities of American United Gold Corporation because it has not filed any periodic reports since the period ended June 30, 2008.

It appears to the Securities and Exchange Commission that there is a lack of current and accurate information concerning the securities of AMS Homecare Inc. because it has not filed any periodic reports since the period ended February 28, 2007.

It appears to the Securities and Exchange Commission that there is a lack of current and accurate information concerning the securities of Aucxis Corp. because it has not filed any periodic reports since the period ended September 30, 2005.

It appears to the Securities and Exchange Commission that there is a lack of current and accurate information concerning the securities of CYOP Systems International Inc. because it has not filed any periodic reports since the period ended December 31, 2006.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 24, 2012, through 11:59 p.m. EST on March 8, 2012.

By the Commission.
Elizabeth M. Murphy,
Secretary.

[FR Doc. 2012-4807 Filed 2-24-12; 11:15 am]

BILLING CODE 8011-01-P